INTERNATIONAL TRADE COMMISSION

[Investigation No. 337-TA-559]

In the Matter of Certain Digital Processors and Digital Processing Systems, Components Thereof, and Products Containing Same; Notice of Commission Decision Not To Review an Initial Determination Granting Complainant's Motion To Amend the Complaint and Notice of Investigation

AGENCY: U.S. International Trade Commission.

ACTION: Notice.

SUMMARY: Notice is hereby given that the U.S. International Trade Commission has determined not to review an initial determination (“ID”) (Order No. 19) issued by the presiding administrative law judge (“ALJ”) granting complainant's motion to amend the complaint and notice of investigation.

FOR FURTHER INFORMATION CONTACT: Michelle Walters, Office of the General Counsel, U.S. International Trade Commission, 500 E Street, SW., Washington, DC 20436, telephone (202) 708-5468. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on January 9, 2006, based on a complaint filed by Biax Corporation (“Biax”) of Boulder, Colorado. The complaint alleges violations of section 337 of the Tariff Act of 1930 (19 U.S.C. 1337) in the importation into the United States, the sale for importation, and the sale within the United States after importation of certain digital processors or digital processing systems, components thereof, or products containing the same by reason of infringement of various claims of United States Patent Nos. 5,021,945 (“the ‘945 patent”), 5,517,628 (“the ‘628 patent”), and 6,253,313 (“the ‘313 patent”). The complaint originally named four respondents: Philips Semiconductors B.V. of the Netherlands; Philips Consumer Electronics Services B.V. of the Netherlands; Philips Consumer Electronics North America Corp. of Atlanta, Georgia; and 2Wire, Inc. of San Jose, California. Biax previously amended the complaint and notice of investigation to remove Philips Consumer Electronics North America Corp. and Philips Consumer Electronics Services B.V. and to add Philips Electronics North America Corp., Philips Semiconductors, Inc., and Philips Consumer Electronics B.V. as respondents.

On January 23, 2007, Biax moved to amend the complaint and notice of investigation to remove respondent Philips Semiconductors B.V. and to add NXP B.V. of the Netherlands as a respondent. Biax stated that it had recently learned that Philips Semiconductors B.V. was spun off into a new business entity NXP B.V. Biax also moved to withdraw claims 3, 4, 8, and 12 of the ‘945 patent and all of the asserted claims of the ‘628 patent and the ‘313 patent from the investigation to reduce the number of issues. None of the current respondents or the Commission investigative attorney opposed Biax's motion.

On February 2, 2007, the ALJ issued an ID (Order No. 19) granting Biax's motion to amend the complaint and notice of investigation. The ALJ found that, pursuant to Commission Rule 210.14(b)(1) (19 CFR 210.14(b)(1)), there was good cause to remove respondent Philips Semiconductors B.V. and to add NXP B.V. as a respondent and to withdraw claims 3, 4, 8, and 12 of the ‘945 patent and the asserted claims of the ‘628 patent and the ‘313 patent from the investigation. No petitions for review of the ID were filed.

Having examined the record of this investigation, the Commission has determined not to review the ALJ's ID.

The authority for the Commission's determination is contained in section 337 of the Tariff Act of 1930, as amended (19 U.S.C. 1337), and in section 210.42 of the Commission's Rules of Practice and Procedure (19 CFR 210.42).

By order of the Commission.
Issued: February 22, 2007.
Marilyn R. Abbott,
Secretary to the Commission.

[FR Doc. E7-3386 Filed 2-26-07; 8:45 am]

BILLING CODE 7020-02-P